DEPARTMENT OF TRANSPORTATION

Federal Transit Administration

[FTA Docket No. FTA 2024-0002]

Agency Information Collection Activity Under OMB Review: Charter Service Operations

AGENCY: Federal Transit Administration, Department of Transportation (DOT).

ACTION: Notice of request for comments.

SUMMARY: In compliance with the Paperwork Reduction Act of 1995, this notice announces that the Information Collection Requirements (ICRs) abstracted below have been forwarded to the Office of Management and Budget (OMB) for review and comment. The ICR describe the nature of the information collection and their expected burdens for the Charter Service Operations.

DATES: Comments must be submitted on or before February 29, 2024.

ADDRESSES: Written comments and recommendations for the proposed information collection should be sent within 30 days of publication of this notice to https://www.reginfo.gov/public/do/PRAMain. You can find this particular information collection by selecting “Currently under 30-day Review—Open for Public Comments” or by using the search function.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is best assured of having its full effect if OMB receives it within 30 days of publication of this notice in the Federal Register.

FOR FURTHER INFORMATION CONTACT: Tia Swain, Office of Administration, Management Planning Division, 1200 New Jersey Avenue., SE, Mail Stop TAD-10, Washington, DC 20590 (202) 366-0354 or tia.swain@dot.gov.

SUPPLEMENTARY INFORMATION: The Paperwork Reduction Act of 1995 (PRA), sec. 2, Public Law 104-13, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On November 15, 2023, FTA published a 60-day notice (88 FR 78456) in the Federal Register soliciting comments on the ICR that the agency was seeking OMB approval. FTA received no comments after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507 (b)-(c); 5 CFR 1320.12(d); see also 60 FR 44978, 44983. OMB believes that the 30-day notice informs the regulated community to file relevant comments and affords the agency adequate time to digest public comments before it renders a decision. 60 FR 44983. Therefore, respondents should submit their respective comments to OMB within 30 days of publication to best ensure having their full effect. 5 CFR 1320.12(c); see also 60 FR 44983.

The summaries below describe the nature of the information collection requirements (ICRs) and the expected burden. The requirements are being submitted for clearance by OMB as required by the PRA.

Title: Charter Service Operations.

OMB Control Number: 2132-0543

Background: FTA's Charter Service Regulations protects private charter operators from unauthorized competition from FTA grant recipients. In essence, the charter regulations were implemented to ensure that transit agencies, subsidized with Federal money, do not unfairly compete with privately owned bus companies. Under the charter rules, with limited exceptions, local transit agencies are restricted from operating chartered services. Charter service means, but does not include demand response service to individuals:

• Transportation provided by a recipient at the request of a third party for the exclusive use of a bus or van for a negotiated price. The following features may be characteristic of charter service:

○ A third party pays the transit provider a negotiated price for the group,

○ Any fares charged to individual members of the group are collected by a third party,

○ The service is not part of the transit provider's regularly scheduled service, or is offered for a limited period of time, or

○ A third party determines the origin and destination of the trip as well as scheduling; or

• Transportation provided by a recipient to the public for events or functions that occur on an irregular basis or for a limited duration and:

○ A premium fare is charged that is greater than the usual or customary fixed route fare; or

○ The service is paid for in whole or in part by a third party.

There are limited exceptions when a grantee may provide charter service, including:

• Official government business,

• Qualified Human Service Organizations (elderly, persons with disabilities, and low- income individuals),

• When no registered charter provider responds to a notice sent by a recipient,

• Leasing (must exhaust all available vehicles first),

• By agreement with all registered charter providers,

• Petitions to the Administrator: Events of regional or national significance, or hardship.

Respondents: Transit Agencies and Private Operators.

Estimated Annual Responses: 2,000 respondents.

Estimated Total Annual Burden: 359 hours.

Frequency: Annually, bi-annually, quarterly, and as required.

Nadine Pembleton,
Deputy Associate Administrator, Office of Administration.

[FR Doc. 2024-01794 Filed 1-29-24; 8:45 am]

BILLING CODE 4910-57-P